DEPARTMENT OF THE INTERIOR

Bureau of Indian Affairs

[K00621 1314 R3B30]

Draft Environmental Impact Statement for the Samish Indian Nation Trust Acquisition and Casino Project, City of Anacortes, Skagit County, Washington

AGENCY: Bureau of Indian Affairs, Interior.

ACTION: Notice of availability.

SUMMARY: This notice advises the public that the Bureau of Indian Affairs as lead agency, with the Samish Indian Nation and the City of Anacortes, serving as cooperating agencies, intends to file a draft environmental impact statement (DEIS) with the U.S. Environmental Protection Agency for the Samish Indian Nation Trust Acquisition and Casino Project, City of Anacortes, Skagit County, Washington. The DEIS is now available for public review and a public hearing will be held to receive comments.

DATES: The date of the public hearing will be announced at least 15 days in advance through notices in the following newspapers: Anacortes American and the Skagit Valley Herald and on the following Web site: www.samisheis.com. Written comments on the DEIS must arrive 45 days after EPA publishes its Notice of Availability in the Federal Register.

ADDRESSES: You may mail or deliver written comments to Mr. Stanley Speaks, Northwest Regional Director, Bureau of Indian Affairs, Northwest Region, 911 Northeast 11th Avenue, Portland, Oregon 97232. The public hearing will be held at the Fidalgo Bay Resort Community Center, 4701 Fidalgo Bay Road, Anacortes, Washington, 98221. See the SUPPLEMENTARY INFORMATION section of this notice for addresses where the DEIS is available for review.

FOR FURTHER INFORMATION CONTACT: Dr. B.J. Howerton, Bureau of Indian Affairs, Northwest Region, 911 Northeast 11th Avenue, Portland, Oregon 97232; fax (503) 231-2275; phone (503) 231-6749.

SUPPLEMENTARY INFORMATION: Compliance with the National Environmental Policy Act (NEPA), and in this situation public review of the DEIS, is part of the administrative process for the evaluation of tribal applications pursuant to section 5 of Indian Reorganization Act (IRA) (25 U.S.C. 465). Pursuant to Council on Environmental Quality National Environmental Policy Act (NEPA) regulations (40 CFR 1506.10), the publication of the Notice of Availability by the EPA in the Federal Register initiates the 45-day public comment period.

The proposed project consists of the following components: (1) Acquisition in trust of three parcels totaling 11.41 acres, more or less, in accordance with section 5 of the IRA and the procedures in 25 CFR part 151; (2) the Secretary of the Interior's issuance of a reservation proclamation pursuant to section 7 of the IRA (25 U.S.C. 467); and (3) development of a casino facility within the project site. At full build-out, the proposed casino facility would have approximately 48,100 square feet of gaming floor. Access to the project site would be provided via driveways along Thompson Road and Stevenson Road.

The following alternatives are considered in the DEIS: (1) Proposed project; (2) Reduced intensity casino development; (3) Non-gaming alternative; (4) Fidalgo Bay Resort Flats site; and (5) No action. Environmental issues addressed in the DEIS include geology and soils, water resources, air quality, biological resources, cultural and paleontological resources, socioeconomic conditions (including environmental justice), transportation and circulation, land use, public services, noise, hazardous materials, aesthetics, cumulative effects, and indirect and growth inducing effects.

The BIA held a public scoping meeting for the project on September 14, 2011, at the Fidalgo Bay Resort, Anacortes, Washington.

Directions for Submitting Comments: Please include your name, return address, and the caption: “DEIS Comments, Samish Indian Nation Trust Acquisition and Casino Project,” on the first page of your written comments.

Locations where the DEIS is Available for Review: The DEIS will be available for review at the Anacortes Public Library located at 1220 10th Street, Anacortes, Washington, 98221, and the Samish Indian Nation Administration Office located at 2918 Commercial Avenue, Anacortes, Washington, 98221. The DEIS is also available online at: http://www.samisheis.com. To obtain a compact disc copy of the DEIS, please provide your name and address in writing or by voicemail to Dr. B.J. Howerton, Environmental Protection Specialist, Bureau of Indian Affairs, Northwest Regional Office. Contact information is listed in the FOR FURTHER INFORMATION CONTACT section of this notice. Individual paper copies of the DEIS will be provided only upon payment of applicable printing expenses by the requestor for the number of copies requested.

Public Comment Availability: Comments, including names and addresses of respondents, will be available for public review at the BIA address shown in the ADDRESSES section during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published in accordance with section 1503.1 of the Council on Environmental Quality regulations (40 CFR 1500 et seq.) and the Department of the Interior Regulations (43 CFR part 46) implementing the procedural requirements of the NEPA (42 U.S.C. 4321 et seq.), and in accordance with the exercise of authority delegated to the Assistant Secretary—Indian Affairs by part 209 of the Department Manual.

Dated: July 29, 2014.
Kevin K. Washburn,
Assistant Secretary—Indian Affairs.

[FR Doc. 2014-19782 Filed 8-21-14; 8:45 am]

BILLING CODE 4310-W7-P